DEPARTMENT OF ENERGY

[Solicitation Number DE-PS36-02GO92004]

Hydrogen Research and Development

AGENCY: Golden Field Office, DOE.

ACTION: Issuance of Solicitation for Financial Assistance Applications.

SUMMARY: The U.S. Department of Energy (DOE) is announcing its intention to seek Financial Assistance Applications for research and development (R&D) projects involving technologies for the production, storage, and utilization of hydrogen.

DATES: Issuance of the Solicitation is planned for no later than early May, 2002.

ADDRESSES: To obtain a copy of the Solicitation once it is issued, interested parties should access the DOE Golden Field Office home page at http://www.golden.doe.gov/businessopportunities.html, click on “Solicitations”, and then access the solicitation number identified above. The Golden home page will provide direct access to the Solicitation and provide instructions on using the DOE Industry Interactive Procurement System (IIPS) Web site. The Solicitation can also be obtained directly through IIPS at http://e-center.doe.gov by browsing opportunities by Program Office for those solicitations issued by the Golden Field Office. DOE will not issue paper copies of the Solicitation.

FOR FURTHER INFORMATION CONTACT: Beth H. Dwyer, Contract Specialist, via facsimile to (303) 275-4788, or electronically to Beth_Dwyer@nrel.gov. Responses to questions will be made by amendment to the Solicitation and posted on the IIPS Web site.

SUPPLEMENTARY INFORMATION: The Department of Energy (DOE) Office of Energy Efficiency and Renewable Energy is soliciting Applications for R&D projects that will advance hydrogen production, storage, and utilization technologies. The DOE intends to provide financial support to assist in the development of such technologies under provisions of the Hydrogen Future Act of 1996, Public Law 104-271.

Under this Solicitation, DOE is seeking Applications for R&D projects that will lead to the implementation of hydrogen technologies in the areas of production, storage, and utilization. Within these three hydrogen technology areas, R&D activities related only to certain processes and equipment types will be eligible for an award, as specified in the Solicitation.

Awards under this Solicitation will be Cooperative Agreements, with a three-year Project Period consisting of three one-year Budget Periods. A go/no-go decision regarding the continuation and funding into Budget Periods subsequent to the first will be made as described in the Solicitation. Eligibility for an award is not restricted to any particular category of Applicant. However, a minimum Cost Share of 20% of Total Project Costs is required in order to be considered for an award.

Although this Solicitation is being issued in Fiscal Year (FY) 2002, potential awards will not be considered until early in FY 2003 (FY 2003 begins October 1, 2002). The possibility for initial awards to be made will depend on the availability of funds in the FY 2003 congressional appropriations. The anticipated level of available DOE funding is specified in the Solicitation for FY 2003, 2004, and 2005. DOE reserves the right to make no awards under this Solicitation or to reduce the requested DOE funding commitment on any potential award through negotiated reductions in work scope.

Issued in Golden, Colorado.
Jerry L. Zimmer,
Director, Office of Acquisition and Financial Assistance.

[FR Doc. 02-11398 Filed 5-7-02; 8:45 am]

BILLING CODE 6450-01-P